DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before April 10, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on February 15, 2024.
Donald P. Burger,
Chief, General Approvals and Permits Branch.

Special Permits Data
Application No. | Applicant | Regulation(s) affected | Nature of the special permits thereof
21623-N | Evergreen Goodwill of Northwest Washington | 172.600, 172.201, 172.300, 172.702, 172.400, 172.500 | To authorize the transportation in commerce of hazardous materials intermingled with non-hazardous materials that have been donated at remote donation sites as not subject to the requirements of the HMR. (mode 1).
21701-N | Shijiazhuang Enric Gas Equipment Co., Ltd | 173.302a(b)(2), 173.302a(b)(3), 173.302a(b)(4), 173.302a(b)(5), 180.205(c), 180.205(f), 180.205(g), 180.205(i), 180.209(a) | To authorize the requalification of DOT 3A, 3AA, 3AX, 3AAX, 3T and UN ISO 11120 cylinders by Acoustic Emission and Ultrasonic Examination (AE/UE) method in place of the internal visual inspection and the hydrostatic test method. (modes 1, 2, 3).
21704-N | KULR Technology Corporation | 172.700(a), 172.200, 173.185(b) | To authorize the manufacture, mark, sale, and use of specially designed thermal runaway shield (TRS) packagings for the transportation in commerce of end-of-life lithium-ion cells and batteries and lithium metal cells and batteries and those contained in and packed with equipment shipped for recycling, reuse, refurbishment, repurposing or evaluation. (modes 1, 2).
21711-N | Maserati North America, Inc | 172.101(j) | To authorize the transportation in commerce of lithium ion batteries exceeding 35 kg by cargo-only aircraft. (mode 4).
21712-N | Apple Inc | 172.101(j) | To authorize the transportation in commerce of lithium batteries exceeding 35 kg by cargo-only aircraft. (mode 4).
21713-N | Lockheed Martin Corporation | 173.301(f)(1), 173.302(a)(1) | To authorize the transportation in commerce of non-DOT specification cylinders containing compressed neon installed in a spacecraft. (mode 1).
21716-N | Kraken Robotics US Inc | 172.101(j), 173.185(a)(1) | To authorize the transportation in commerce of prototype and low production lithium ion batteries aboard cargo-only aircraft. (mode 4).
21718-N | UFP Packaging, LLC | 178.935(c)(1) | To authorize the manufacture, mark, sale, and use of UN 50D large packagings that have a volumetric capacity greater than 3,000 liters. (modes 1, 3).
21719-N | ERCO Worldwide (USA) Inc | 172.302(c), 173.26, 173.314(c), 179.13(b) | To authorize the transportation in commerce of tank cars containing chlorine in quantities that exceed the specified limits. (mode 2).
21721-N | WAE Technologies Limited | 172.101(j) | To authorize the transportation in commerce of lithium batteries exceeding 35 kg by cargo-only aircraft. (mode 4).
21722-N | Olin Winchester LLC | 172.301(c), 173.56(a)(2), 173.56(b) | To authorize the transportation in commerce of Class 1 materials that have not been approved in accordance with 49 CFR 173.56(b). (modes 1, 2, 3, 4, 5).
21723-N | LeoStella LLC | 173.185(a)(1), 173.302a | To authorize the transportation in commerce of satellites containing low production lithium batteries and non-DOT specification cylinders filled with xenon by motor vehicle and cargo-only aircraft. (modes 1, 4).
21726-N | Towa Industries, Inc | 173.6, 173.6(a)(1), 173.6(a)(1)(ii) | To authorize the transportation in commerce of battery powered generators under the materials of trade exception. (mode 1).

[FR Doc. 2024-05034 Filed 3-8-24; 8:45 am]

BILLING CODE P